NATIONAL ARCHIVES AND RECORDS ADMINISTRATION

Advisory Committee on the Records of Congress

AGENCY: National Archives and Records Administration.

ACTION: Notice of Meeting.

SUMMARY: In accordance with the Federal Advisory Committee Act, as amended (5 U.S.C. Appendix 2) the National Archives and Records Administration (NARA) announces a meeting of the Advisory Committee on the Records of Congress. The committee advises NARA on the full range of programs, policies, and plans for the Center for Legislative Archives in the Office of Records Services.

DATES: November 16, 2009 from 10 a.m. to 11:30 a.m.

ADDRESSES: National Archives and Records Administration, Archivist's Boardroom.

FOR FURTHER INFORMATION CONTACT: Richard H. Hunt, Director; Center for

Legislative Archives; (202) 357-5350.

SUPPLEMENTARY INFORMATION:

Agenda

(1) Chair's opening remarks—Clerk of the House.

(2) Recognition of Co-chair—Secretary of the Senate.

(3) Recognition of the Archivist of the United States.

(4) Approval of the minutes of the last meeting.

(5) Discussion of on-going projects and activities.

(6) Annual Report of the Center for Legislative Archives.

(7) Other current issues and new business.

The meeting is open to the public.

Dated: October 27, 2009.
Mary Ann Hadyka,
Committee Management Officer.

[FR Doc. E9-26281 Filed 10-29-09; 8:45 am]

BILLING CODE 7515-01-P